NATIONAL SCIENCE FOUNDATION

National Science Board; Sunshine Act Meetings

The National Science Board's ad hoc Committee on Nominations for the NSB Class of 2016-2022, pursuant to NSF regulations (45 CFR part 614), the National Science Foundation Act, as amended (42 U.S.C. 1862n-5), and the Government in the Sunshine Act (5 U.S.C. 552b), hereby gives notice in regard to the scheduling of a meeting for the transaction of National Science Board business, as follows:

TIME AND DATE: Monday, August 31, 2015 at 2-3 p.m. EDT.

MATTERS TO BE CONSIDERED: Committee chair's remarks, conflict of interest policy and application to committee, discussion of nominations process for the NSB class of 2016-2022, timeline and date to open nominations.

STATUS: Closed.

This meeting will be held by teleconference originating at the National Science Board Office, National Science Foundation, 4201 Wilson Blvd., Arlington, VA 22230.

Please refer to the National Science Board Web site (www.nsf.gov/nsb) for information or schedule updates, or contact: Brandon Powell (bjpowell@nsf.gov), National Science Foundation, 4201 Wilson Blvd., Arlington, VA 22230.

Kyscha Slater-Williams,
Program Specialist.

[FR Doc. 2015-21181 Filed 8-21-15; 4:15 pm]

BILLING CODE 7555-01-P